DEPARTMENT OF ENERGY

Orders Granting Authority To Import and Export Natural Gas, To Import and Export Liquefied Natural Gas, Order To Show Cause, Request for Rehearing and Motion for Leave To Answer, Request To Extend Commencement Date, and Vacating Authorization During June 2017

| FE Docket Nos.
Lousiana LNG Energy LLC | 14-19-LNG
| 14-29-LNG
Golden Pass Products LLC | 12-156-LNG
Freeport LNG Expansion, L.P., FLNG Liquefaction, LLC, FLNG Liquefaction 2 LLC, AND FLNG Liquefaction 3 LLC | 10-160-LNG
Energia Del Caribe, S.A | 16-23-NG
Lake Charles LNG Export Company, LLC | 16-109-LNG
Lake Charles Exports, LLC | 16-110-NG
Delfin LNG LLC | 13-147-LNG
Dominion Cove Point LNG, LP | 16-205-LNG
Emera Energy Services, Inc | 17-67-NG
CFE International LLC | 17-66-NG
Chevron U.S.A. Inc | 17-71-NG
Trailstone NA Logistics, LLC | 17-50-NG
Freeport LNG Development, L.P | 17-23-LNG

AGENCY: Office of Fossil Energy, Department of Energy.

ACTION: Notice of orders.

SUMMARY: The Office of Fossil Energy (FE) of the Department of Energy gives notice that during June 2017, it issued orders granting authority to import and export natural gas, to import and export liquefied natural gas (LNG), Order to Show Cause, Request for Rehearing and Motion for Leave to Answer, Request to Extend Commencement Date, and vacating authority. These orders are summarized in the attached appendix and may be found on the FE Web site at http://energy.gov/fe/listing-doefe-authorizationsorders-issued-2017.

They are also available for inspection and copying in the U.S. Department of Energy (FE-34), Division of Natural Gas Regulation, Office of Regulation and International Engagement, Office of Fossil Energy, Docket Room 3E-033, Forrestal Building, 1000 Independence Avenue SW., Washington, DC 20585, (202) 586-9478. The Docket Room is open between the hours of 8:00 a.m. and 4:30 p.m., Monday through Friday, except Federal holidays.

Issued in Washington, DC, on July 24, 2017.
John A. Anderson,
Director, Office of Regulation and International Engagement, Office of Oil and Natural Gas.

Appendix

DOE/FE Orders Granting Import/Export Authorizations
No order number assigned | 06/12/17 | 14-19-LNG; 14-29-LNG | Louisiana LNG Energy LLC | Order to Show Cause.
No Order Number Assigned | 06/23/17 | 12-156-LNG | Golden Pass Products LLC | Order granting Request for Rehearing and Motion for Leave to Answer for the Purpose of Further Consideration.
2913-B | 06/07/17 | 10-160-LNG | Freeport LNG Expansion, L.P., FLNG Liquefaction, LLC, FLNG Liquefaction 2, LLC, and FLNG Liquefaction | Order 2913-B granting blanket authority to Request to Extend Commencement Date of export authorization.
3795-A | 06/16/17 | 16-23-NG | Energia del Caribe, S.A. | Order 3795-A vacating blanket authority to export natural gas to Mexico.
4010 | 06/29/17 | 16-109-LNG | Lake Charles LNG Export Company, LLC | Opinion and Order 4010 granting long-term, multi-contract authority to export LNG by vessel from the Lake Charles Terminal in Lake Charles, Louisiana, to Free Trade and Non-free Trade Agreement Nations.
4011 | 06/29/17 | 16-110-LNG | Lake Charles Exports, LLC | Opinion and Order 4011 granting long-term multi-contract authority to export LNG by vessel from the Lake Charles Terminal in Lake Charles, Louisiana, to Free Trade and Non-free Trade Agreement Nations.
4028 | 06/01/17 | 13-147-LNG | Delfin LNG LLC | Order 4028 granting long-term, multi-contract authority to export LNG by vessel from the Proposed Floating Delfin Liquefaction Facility, offshore of Cameron Parish, Louisiana, to Non-free Trade Agreement Nations.
4046 | 06/02/17 | 16-205-LNG | Dominion Cove Point LNG, LP | Order 4046 granting blanket authority to export LNG by vessel from the Cove Point Terminal located in Calvert County, Maryland, to Free Trade and Non-free Trade Agreement Nations.
4050 | 06/08/17 | 17-67-NG | Emera Energy Services, Inc | Order 4050 granting blanket authority to import/export natural gas from/to Canada.
4051 | 06/08/17 | 17-66-NG | CFE International LLC | Order 4051 granting blanket authority to import/export natural gas from/to Mexico, and vacating prior authorization.
4052 | 06/08/17 | 17-71-NG | Chevron U.S.A. Inc. | Order 4052 granting blanket authority to import/export natural gas from/to Canada.
4053 | 06/26/17 | 17-50-NG | TrailStone NA Logistics, LLC | Order 4053 granting blanket authority to import/export natural gas from/to Canada/Mexico, to import LNG from Canada/Mexico by truck, to export LNG to Canada/Mexico by vessel, to import LNG from various international sources by vessel, and vacating prior authorization.
4054 | 06/26/17 | 17-23-LNG | Freeport LNG Development, L.P | Order 4054 granting blanket authority to export previously imported LNG by vessel.

[FR Doc. 2017-15932 Filed 7-27-17; 8:45 am]

BILLING CODE 6450-01-P